DEPARTMENT OF COMMERCE

Foreign-Trade Zones Board

[B-3-2014]

Foreign-Trade Zone 49—Newark, New Jersey Area; Authorization of Production Activity; Western Carriers, Inc. (Kitting of Liquor Gift Sets), North Bergen, New Jersey

On January 13, 2014, the Port Authority of New York and New Jersey, grantee of FTZ 49, submitted a notification of proposed production activity to the Foreign-Trade Zones (FTZ) Board on behalf of Western Carriers, Inc., within FTZ 49—Site 15, in North Bergen, New Jersey.

The notification was processed in accordance with the regulations of the FTZ Board (15 CFR part 400), including notice in the Federal Register inviting public comment (79 FR 4442, 1-28-2014). The FTZ Board has determined that no further review of the activity is warranted at this time. The production activity described in the notification is authorized, subject to the FTZ Act and the FTZ Board's regulations, including Section 400.14.

Dated: May 13, 2014,
Andrew McGilvray,
Executive Secretary.

[FR Doc. 2014-11529 Filed 5-16-14; 8:45 am]

BILLING CODE 3510-DS-P